DEPARTMENT OF DEFENSE

Department of the Army

Intent To Grant an Exclusive License for a U.S. Government-Owned Invention

AGENCY: Department of the Army, DoD.

ACTION: Notice.

SUMMARY: In accordance with 35 U.S.C. 209(e), and 37 CFR 404.7(a)(1)(i), announcement is made of the intent to grant an exclusive, revocable license, to U.S. Provisional Patent No. 62/086,355, filed December 2, 2014, entitled, “Novel Regimens of Tafenoquine For Prevention of Malaria in Malaria-Naïve Subjects,” U.S. Patent No. 6,479,660, issued November 12, 2002, entitled, “Process for the Preparation of Anti-Malarial Drugs,” and U.S. Patent No. 7,145,014, issued December 5, 2006, entitled “Process for the Preparation of Quinoline Derivatives.” The intended licensee is 60° Pharmaceuticals, LLC, with its principal place of business at 1025 Connecticut Ave. NW., Suite 1000, Washington, DC 20036.

ADDRESSES: Commander, U.S. Army Medical Research and Materiel Command, ATTN: Command Judge Advocate, MCMR-JA, 504 Scott Street, Fort Detrick, Frederick, MD 21702-5012.

FOR FURTHER INFORMATION CONTACT: For licensing issues, Barry M. Datlof, Office of Research and Technology Applications (ORTA), (301) 619-0033. For patent issues, Ms. Elizabeth Arwine, Patent Attorney, (301) 619-7808, both at telefax (301) 619-5034.

SUPPLEMENTARY INFORMATION: Anyone wishing to object to the grant of this license can file written objections along with supporting evidence, if any, within 15 days from the date of this publication. Written objections are to be filed with the Command Judge Advocate (see ADDRESSES).

Brenda S. Bowen,
Army Federal Register Liaison Officer.

[FR Doc. 2015-14574 Filed 6-12-15; 8:45 am]

BILLING CODE 3710-08-P